DEPARTMENT OF HOMELAND SECURITY

Coast Guard

[Docket No. USCG-2017-0692]

Equivalency Determination for “Marine Charts,” “Charts,” or “Maps,” “Publications,” and Navigation Functions—Notice of Availability of Navigation and Vessel Inspection Circular 01-16 Change 1

AGENCY: Coast Guard, DHS.

ACTION: Notice of availability.

SUMMARY: The Coast Guard (USCG) is announcing, the availability of Navigation and Vessel Inspection Circular (NVIC) 01-16 change 1. The NVIC provides that display of certain electronic charts and publications will meet—as an equivalency—the “marine charts,” “charts,” “maps,” or “publications” carriage requirements and provides for an equivalency for position fixing and plotting. USCG intends, by this policy, to provide a path for U.S. flagged vessels to replace paper charts and most hard copy publications if so desired.

FOR FURTHER INFORMATION CONTACT: Please address questions or feedback concerning this policy to LCDR Matthew Walter, telephone 202-372-1565 or email cgnav@uscg.mil.

SUPPLEMENTARY INFORMATION: In response to recommendations from Coast Guard Federal Safety Advisory Committees, industry stakeholders and agency partners, the Coast Guard updated its original policy on electronic charts and publications. Navigation and Vessel Inspection Circular (NVIC) 01-16 change 1 is revised to focus on the equivalency determination for charts, publications and, newly added, navigation functions. It only accepts certain electronic charts as described. It requires vessels that operate offshore to display charts on certain systems. It describes the minimum performance requirements for equipment receiving position information and restates our policy on electronic navigation publications.

Title 33 of the Code of Federal Regulations requires “currently corrected marine charts” of a large enough scale and with enough detail to make safe navigation possible. In 2002, the Coast Guard authorized U.S. flagged SOLAS-compliant vessels to use an Electronic Chart Display and Information System (ECDIS) in lieu of paper charts.¹ That policy did not apply to the U.S. flagged vessels engaged solely on domestic voyages. Therefore, the Coast Guard is publishing an equivalency to address electronic chart carriage on those vessels.

¹ 67 Federal Register 53382 as amended by 69 Federal Register 42192, Carriage of Navigation Equipment for Ships on International Voyages.

Title 33 of the CFR 164 also requires that some vessels fix their position ² and other vessels fix and plot their position.³ The USCG recognizes the benefit of real-time positioning data, and that it can provide greater situational awareness than what could be achieved using paper charts. Therefore, USCG is announcing an equivalency to fixing and plotting. Title 33 of the CFR, along with the International Convention of Safety of Life at Sea (SOLAS) Chapter V Regulation 27, also requires currently corrected editions of, or applicable currently corrected extracts from, nautical publications necessary for the intended voyage. In 2010, USCG announced policy accepting some electronic publications in lieu of paper publications.⁴ NVIC 01-16 change 1 does not substantively change this USCG publication policy, but rather consolidates information.

² 33 CFR 164.11 & 164.78—Self-propelled vessels 1600 or more gross tons and towing vessels 12 meters or more in length.

³ 33 CFR 164.11—Self-propelled vessels 1600 or more gross tons.

⁴ CG-543 Policy Letter 10-05 canceled and replaced by Navigation and Vessel Inspection Circular 01-16.

Additionally, NVIC 01-16 change 1 also provides guidance to marine inspectors regarding how to identify approved and/or appropriate electronic charts, display systems, position information and electronic publications. Finally, this Circular recommends practices that vessel owners and operators should consider when navigating with the assistance of electronics.

This Circular is not a substitute for applicable legal requirements, nor is it itself a rule. It does not provide equivalence for the purposes of SOLAS certificates. Mariners are responsible to safely navigate and follow applicable regulatory requirements.

Dated: July 10, 2017.
RADM Paul F. Thomas,
Assistant Commandant for Prevention Policy, U.S. Coast Guard.

[FR Doc. 2017-15056 Filed 7-17-17; 8:45 am]

BILLING CODE 9110-04-P